DEPARTMENT OF EDUCATION

Notice Reopening the Application Period and Waiving the Electronic Submission Requirement for Certain Applicants Under the Fiscal Year (FY) 2020 Student Support Services (SSS) Program Competition

AGENCY: Office of Postsecondary Education, Department of Education.

ACTION: Notice.

SUMMARY: The Secretary is reopening the FY 2020 SSS Program competition, Catalog of Federal Domestic Assistance (CFDA) number 84.042A, for eligible institutions of higher education (IHEs) or combinations of IHEs in the designated counties of the Commonwealth of Puerto Rico affected by the recent earthquakes, for which the President has issued a disaster declaration. The Secretary takes this action to allow these eligible applicants additional time to submit their applications. This notice also waives the electronic application submission requirement for these eligible applicants.

DATES:

Deadline for Transmittal of Applications: February 18, 2020.

Deadline for Intergovernmental Review: April 10, 2020.

FOR FURTHER INFORMATION CONTACT: Lavelle Wright, U.S. Department of Education, 400 Maryland Avenue SW, Room 268-24, Washington, DC 20202-4260. Telephone: (202) 453-7739. Email: Lavelle.wright@ed.gov.

If you use a telecommunications device for the deaf (TDD) or a text telephone (TTY), call the Federal Relay Service (FRS), toll free, at 1-800-877-8339.

SUPPLEMENTARY INFORMATION: On December 17, 2019 we published in the Federal Register a notice inviting applications for new awards for the FY 2020 SSS Program competition (84 FR 68915). This notice reopens the period for transmittal of applications for all SSS Program applicants that are located in the designated counties of the Commonwealth of Puerto Rico, for which the President has issued a disaster declaration.

Eligibility: The extension of the application deadline date in this notice applies to eligible applicants under the SSS Program, CFDA number 84.042A, that are located in an area for which the President has issued a disaster declaration (see www.fema.gov/disasters/) in Puerto Rico (FEMA Disaster designation 4473).

In accordance with the NIA, eligible applicants for this grant competition are IHEs or combinations of IHEs. Note that because “combinations of IHEs” are eligible grant applicants for the SSS Program, the extension of the application deadline date applies if any member of the IHE partnership is located in the designated counties of the Commonwealth of Puerto Rico, for which the President has issued a disaster declaration.

All IHEs eligible for the deadline extension must submit an application electronically via Grants.gov or via paper to the program contact person listed under FOR FURTHER INFORMATION CONTACT by 11:59:59 p.m., Eastern time on February 10, 2020.

Note: All information in the original notice inviting applications remains the same, except for the deadline for the transmittal of applications and the waiver of the electronic application submission requirement for eligible applicants, as well as the deadline for intergovernmental review.

Program Authority: 20 U.S.C. 1070a-11 and 20 U.S.C. 1070a-14.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Robert L. King,
Assistant Secretary for Postsecondary Education.

[FR Doc. 2020-02102 Filed 2-3-20; 8:45 am]

BILLING CODE 4000-01-P